DEPARTMENT OF LABOR

Office of the Secretary

Submission for OMB Review; Comment Request

September 24, 2001.

The Department of Labor (DOL) has submitted the following public information collection requests (ICRs) to the Office of Management and Budget (OMB) for review and approval in accordance with the Paperwork Reduction Act of 1995 (Pub. L. 104-13, 44 U.S.C. Chapter 35). A copy of this ICR, with applicable supporting documents, may be obtained by calling the Department of Labor. To obtain documentation contact Darrin King at (202) 693-4129 or E-Mail: King-Derrin@dol.gov.

Comments should be sent to Office of Information and Regulatory Affairs, Attn: OMB Desk Officer for ETA, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment and Training Administration (ETA).

Type of Review: Revision of a currently approved collection.

Title: Benefits, Timeliness and Quality (BTQ) Review System.

OMB Number: 1205-0359.

Affected Public: State, Local, or Tribal Government.

Frequency: Monthly.

Type of Response: Reporting.

Number of Respondents: 53.

Number of Annual Responses: 28,912.

Estimated Time Per Respondent: 720.15 hours.

Total Burden Hours: 38,168.

Total Annualized Capital/Startup Costs: $0.

Total Annual Costs (operating/maintaining systems or purchasing services): $0.

Description: The Secretary of Labor has a legal responsibility under the Social Security Act (SSA), Title III, Section 303(a)(1), for reimbursing State Employment Security Agencies the necessary costs of proper and efficient administration of State unemployment insurance (UI) laws. SSA, Title III, Section 303(a)(6) authorizes the Secretary of Labor to require reports to assure the correctness and verification of state reports. The Department of Labor and State Employment Security Agencies use the BTQ Review System to assess and evaluate timeliness and quality of UI benefit operations. The results help to determine operating areas that need Corrective Action Plans to meet achievement standards in State's annual State Quality Service Plan.

Darrin A. King,
Acting Departmental Clearance Officer.

[FR Doc. 01-24322 Filed 9-27-01; 8:45 am]

BILLING CODE 4510-30-M